DEPARTMENT OF COMMERCE

Foreign-Trade Zones Board

[B-41-2024]

Foreign-Trade Zone (FTZ) 52; Authorization of Production Activity; Photonics Industries International Inc.; (Laser Systems); Ronkonkoma, New York

On July 18, 2024, Photonics Industries International Inc. submitted a notification of proposed production activity to the FTZ Board for its facility within FTZ 52, in Ronkonkoma, New York.

The notification was processed in accordance with the regulations of the FTZ Board (15 CFR part 400), including notice in the Federal Register inviting public comment (89 FR 60601, July 26, 2024). On November 15, 2024, the applicant was notified of the FTZ Board's decision that no further review of the activity is warranted at this time. The production activity described in the notification was authorized, subject to the FTZ Act and the FTZ Board's regulations, including section 400.14.

Dated: November 15, 2024.
Elizabeth Whiteman,
Executive Secretary.

[FR Doc. 2024-27169 Filed 11-20-24; 8:45 am]

BILLING CODE 3510-DS-P